DEPARTMENT OF ENERGY

Federal Energy Regulatory Commission

Combined Notice of Filings #1

Take notice that the Commission received the following electric corporate filings:

Docket Numbers: EC22-52-000.

Applicants: Hallador Power Company, LLC.

Description: Hallador Power Company, LLC submits response to Deficiency Letter.

Filed Date: 7/15/22.

Accession Number: 20220715-5204.

Comment Date: 5 pm ET 7/29/22.

Docket Numbers: EC22-61-000.

Applicants: LSP-Whitewater Limited Partnership, Wisconsin Public Service Corporation, Wisconsin Electric Power Company.

Description: Response to May 19, 2022 Deficiency Letter of LSP-Whitewater Limited Partnership, et. al.

Filed Date: 7/18/22.

Accession Number: 20220718-5206.

Comment Date: 5 pm ET 8/8/22.

Docket Numbers: EC22-91-000.

Applicants: CID Solar, LLC, Cottonwood Solar, LLC, Onward Solar Gen-Tie, LLC, RE Columbia, LLC.

Description: Joint Application for Authorization Under Section 203 of the Federal Power Act of CID Solar, LLC, et al.

Filed Date: 7/15/22.

Accession Number: 20220715-5245.

Comment Date:5 pm ET 8/5/22.

Take notice that the Commission received the following Complaints and Compliance filings in EL Dockets:

Docket Numbers:EL22-76-000; QF22-777-001.

Applicants: Rocktown Solar, LLC, Rocktown Solar, LLC.

Description: Application for Order Reinstating the Obligation to Purchase Under 18 CFR 292.311 of Rocktown Solar, LLC.

Filed Date: 7/15/22.

Accession Number: 20220715-5238.

Comment Date:5 pm ET 8/12/22.

Take notice that the Commission received the following electric rate filings:

Docket Numbers: ER20-2219-001.

Applicants: New England Power Company.

Description: Compliance filing: 2022-07-19 Amended Order No. 864 Compliance Filing—IFA Sched III-B Revisions to be effective 1/27/2020.

Filed Date: 7/19/22.

Accession Number: 20220719-5081.

Comment Date:5 pm ET 8/9/22.

Docket Numbers: ER20-2551-001.

Applicants: ISO New England Inc., New England Power Company.

Description: Compliance filing: ISO New England Inc. submits tariff filing per 35: NEP Order No. 864 Compliance Revisions to Schedule 21-NEP in Docket ER20-2551 to be effective 1/27/2020.

Filed Date: 7/18/22.

Accession Number: 20220718-5153.

Comment Date:5 pm ET 8/8/22.

Docket Numbers: ER20-2553-001.

Applicants: New England Power Company.

Description: Compliance filing: 2022-07-18 Supplemental Order No. 864 Compliance Revisions to TSA-NEP-22 to be effective 1/27/2020.

Filed Date: 7/18/22.

Accession Number: 20220718-5160.

Comment Date:5 pm ET 8/8/22.

Docket Numbers: ER21-40-000.

Applicants: ConocoPhillips Company.

Description: Refund Report: Refund Report Filing Under ER21-40-000 to be effective N/A.

Filed Date: 7/19/22.

Accession Number: 20220719-5168.

Comment Date:5 pm ET 8/9/22.

Docket Numbers: ER21-125-001.

Applicants: Tampa Electric Company.

Description: Compliance filing: Amendment—Order No. 864 Compliance Filing to be effective 1/27/2020.

Filed Date: 7/19/22.

Accession Number: 20220719-5109.

Comment Date:5 pm ET 8/9/22.

Docket Numbers: ER22-2408-000.

Applicants: Switch Energy LLC.

Description: Tariff Amendment: Cancellation of Market Based Rate Tariff to be effective 7/20/2022.

Filed Date: 7/19/22.

Accession Number: 20220719-5001.

Comment Date:5 pm ET 8/9/22.

Docket Numbers: ER22-2409-000.

Applicants: PJM Interconnection, L.L.C.

Description: § 205(d) Rate Filing: Amendment to ISA, Service Agreement No. 5416; Queue Nos. AC2-067/AC2-068 to be effective 6/4/2019.

Filed Date: 7/19/22.

Accession Number: 20220719-5006.

Comment Date:5 pm ET 8/9/22.

Docket Numbers: ER22-2410-000.

Applicants: Sonny Solar, LLC.

Description: Baseline eTariff Filing: Sonny Solar, LLC MBR Tariff to be effective 8/31/2022.

Filed Date: 7/19/22.

Accession Number: 20220719-5097.

Comment Date:5 pm ET 8/9/22.

Docket Numbers: ER22-2411-000.

Applicants: PGR 2021 Lessee 13, LLC.

Description: Baseline eTariff Filing: PGR 2021 Lessee 13, LLC MBR Tariff to be effective 8/31/2022.

Filed Date: 7/19/22.

Accession Number: 20220719-5098.

Comment Date:5 pm ET 8/9/22.

Docket Numbers: ER22-2412-000.

Applicants: Bulldog Solar, LLC.

Description: Baseline eTariff Filing: Bulldog Solar, LLC MBR Tariff to be effective 8/31/2022.

Filed Date: 7/19/22.

Accession Number: 20220719-5099.

Comment Date:5 pm ET 8/9/22.

Docket Numbers: ER22-2413-000.

Applicants: PGR 2021 Lessee 9, LLC.

Description: Baseline eTariff Filing: PGR 2021 Lessee 9, LLC MBR Tariff to be effective 8/31/2022.

Filed Date: 7/19/22.

Accession Number: 20220719-5100.

Comment Date:5 pm ET 8/9/22.

Docket Numbers: ER22-2414-000.

Applicants: Southwest Power Pool, Inc.

Description: § 205(d) Rate Filing: 3988 Wagon/Amber/States/Flat Ridge/Evergy KS Central SNUFCA to be effective 9/17/2022.

Filed Date: 7/19/22.

Accession Number: 20220719-5118.

Comment Date:5 pm ET 8/9/22.

Docket Numbers: ER22-2415-000.

Applicants: AEP Texas Inc.

Description: § 205(d) Rate Filing: AEPTX-Great Kiskadee Storage Generation Interconnection Agreement to be effective 6/30/2022.

Filed Date: 7/19/22.

Accession Number: 20220719-5120.

Comment Date:5 pm ET 8/9/22.

Docket Numbers: ER22-2416-000.

Applicants: Tucson Electric Power Company.

Description: § 205(d) Rate Filing: Vail to Tortolita Participation Agreement to be effective 7/20/2022.

Filed Date: 7/19/22.

Accession Number: 20220719-5124.

Comment Date:5 pm ET 8/9/22.

Docket Numbers: ER22-2417-000.

Applicants: AEP Texas Inc.

Description: § 205(d) Rate Filing: AEPTX-AP Sunray 1st A&R System Upgrade Agreement to be effective 7/5/2022.

Filed Date: 7/19/22.

Accession Number: 20220719-5126.

Comment Date:5 pm ET 8/9/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 19, 2022.
Debbie-Anne A. Reese,
Deputy Secretary.

[FR Doc. 2022-15842 Filed 7-22-22; 8:45 am]

BILLING CODE 6717-01-P